DEPARTMENT OF LABOR

Office of the Secretary

Submission for OMB Review: Comment Request

October 11, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: Notice of Controversion of Right to Compensation.

OMB Number: 1215-0023.

Form Number: LS-207.

Frequency: On occasion.

Type of Response: Reporting.

Affected Public: Business or other for-profit.

Number of Respondents: 750.

Annual Responses: 15,750.

Average Response Time: 15 minutes.

Estimated Annual Burden Hours: 3,938.

Total Annualized Capital/startup Costs: $0.

Total Annual Costs (operating/maintaining systems or purchasing services): $7,011.00.

Description: The Division of Longshore and Harbor Workers' Compensation administers the Longshore and Harbor Worker's Compensation Act. This Act provides benefits to workers injured in maritime employment on the navigable waters of the United States or in an adjoining area customarily used by an employer in loading, unloading, repairing or building a vessel. Pursuant to sections 914(d) of the Act, and 20 CFR 702.251, if an employer controverts the right to compensation he/she shall file with the district director in the affected compensation district on or before the fourteenth day after he/she has knowledge of the alleged injury or death, a notice, in accordance with a form prescribed by the Secretary, stating that the right to compensation is controverted. Form LS-207 is used for this purpose. Form LS-207 is used by insurance carriers and self-insured employers to controvert claims under the Longshore Act.

Agency: Employment Standards Administration.

Type of Review: Extension of currently approved collection.

Title: Agreement and Undertaking.

OMB Number: 1215-0034.

Form Number: OWCP-1.

Frequency: On occasion.

Type of Response: Reporting.

Affected Public: Business or other for-profit.

Number of Respondents: 300.

Annual Responses: 300.

Average Response Time: 15 minutes.

Estimated Annual Burden Hours: 75.

Total Annualized Capital/startup Costs: $0.

Total Annual Costs (operating/maintaining systems or purchasing services): $120.00.

Description: Coal Mine operators and Longshore companies desiring to be self-insurers are required by law (30 U.S.C. 933 BL and 33 U.S.C. 932 LS) to produce security in terms of an indemnity bond, security deposit, or for Black Lung only, a letter of credit or 501(c)(21) trust. Once a company's application to become self-insured is reviewed by the Division of Coal Mine Workers; Compensation or by the Division of Longshore and Harbor Workers' Compensation and it is determined the company is potentially eligible, an amount of security is determined to guarantee the payment of benefits required by the Act.

The OWCP-1 form is executed by the self-insurer who agrees to abide by the Department's rules and authorizes the Secretary, in the event of default, to file suit to secure payment from a bond underwriter or in the case of a Federal Reserve account, to sell the securities for the same purpose. A company cannot be authorized to self-insure until this requirement is met. Regulations establishing this requirement are at 20 CFR 726.110 for Coal Mine/Black Lung and 20 CFR 703.304 for Longshore.

Agency: Employment Standards Administration.

Type of Review: Extension of currently approved collection.

Title: Application for Federal Certificate of Age.

OMB Number: 1215-0083.

Form Number: WH-14.

Frequency: On occasion.

Type of Response: Reporting and Recordkeeping.

Affected Public: Business or other for-profit; not-for-profit institutions; farms; and State, tribal, or local government.

Number of Respondents: 10.

Annual Responses: 10.

Average Response Time: 10 minutes.

Estimated Annual Burden Hours: 2.

Total Annualized Capital/startup Costs: $0.

Total Annual Costs (operating/maintaining systems or purchasing services): $0.

Description: Fair Labor Standards Act (FLSA), 29 U.S.C. 201 et seq., section 3(l) provides, in part, that an employer may protect against unwitting employment of “'oppressive child labor,”' as defined in section 3(l), by having on file a certificate issued pursuant to Department of Labor regulations certifying that the named person meets the FLSA minimum age requirements for employment. FLSA section 11(c) requires that all employers covered by the Act make, keep, and preserve records of wages, hours, and other conditions and practices of employment with respect to their employees. The employer is to maintain the records for such period of time and make such reports as prescribed by regulations issued by the Secretary of Labor. Form WH-14 is the application employers submit to obtain Federal Certificates of Age to protect themselves against unwitting child labor violations of the Fair Labor Standards Act.

Darrin A. King,
Acting Departmental Clearance Officer.

[FR Doc. 05-20667 Filed 10-14-05; 8:45 am]

BILLING CODE 4510-CF-P